DEPARTMENT OF HOMELAND SECURITY

Coast Guard

33 CFR Part 117

[Docket No. USCG-2014-0143]

Drawbridge Operation Regulations; Annisquam River and Blynman Canal, Gloucester, MA

AGENCY: Coast Guard, DHS.

ACTION: Notice of temporary deviation from regulations.

SUMMARY: The Coast Guard has issued a temporary deviation from the schedule governing the operation of the Blynman (SR127) Bridge across the Annisquam River and Blynman Canal, mile 0.0, at Gloucester, Massachusetts. The deviation is necessary to facilitate public safety during a public event, the annual Saint Peter's Fiesta 5K Road Race. This temporary deviation authorizes the bridge to remain in the closed position for thirty minutes to facilitate public safety.

DATES: This deviation is effective from 6:15 p.m. to 6:45 p.m. on June 26, 2014.

ADDRESSES: The docket for this deviation [USCG-2014-0143] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. John W. McDonald, Project Officer, First Coast Guard District, telephone (617) 223-8364 or email john.w.mcdonald@uscg.mil. If you have questions on viewing the docket, call Cheryl Collins, Program Manager, Docket Operations, telephone 202-366-9826.

SUPPLEMENTARY INFORMATION: The Blynman (SR127) Bridge at mile 0.0, across the Annisquam River and Blynman Canal at Gloucester, Massachusetts, has 8.2 feet of vertical clearance at mean high water and 16 feet of vertical clearance at mean low water. The existing drawbridge operation regulations are listed at 33 CFR 117.586.

The owner of the bridge, Massachusetts Department of Transportation, requested a temporary deviation from the schedule to facilitate a public event, the Annual Saint Peter's Fiesta 5K Road Race.

The waterway has recreational vessel traffic of various sizes.

Under this temporary deviation the Blynman (SR127) Bridge at mile 0.0, across the Annisquam River and Blynman Canal may remain in the closed position for thirty minutes, between 6:15 p.m. and 6:45 p.m. on June 26, 2014. Vessels that can pass under the bridge without a bridge opening may do so at all times. There is an alternate route for vessel traffic around Cape Ann.

In accordance with 33 CFR 117.35(e), the bridge must return to its regular operating schedule immediately at the end of the designated time period. This deviation from the operating regulations is authorized under 33 CFR 117.35.

Dated: April 1, 2014.
C.L. Bisignano,
Supervisory Bridge Management Specialist, First Coast Guard District.

[FR Doc. 2014-08241 Filed 4-11-14; 8:45 am]

BILLING CODE 9110-04-P